Proclamation 10005 of March 31, 2020

Second Chance Month, 2020

By the President of the United States of America

A Proclamation

As Americans, we believe that every person has unbound potential. It is therefore important that we offer former inmates who have served their sentences and learned from their earlier mistakes the opportunity for redemption through a second chance to become productive members of society. During Second Chance Month, we celebrate those who have set out to create better lives following incarceration and recommit to helping former inmates contribute to the strength and prosperity of our Nation.

In 2018, I signed into law the First Step Act, landmark legislation that brought needed reform to our criminal justice system. The First Step Act reduced penalties and eliminated the three-strike mandatory life sentence provision for certain non-violent offenders. This legislation also expanded judges' discretion to impose sentences that are below the mandatory minimum for drug offenders with little or no criminal history. Additionally, it allows certain low-level drug offenders to petition the courts for a review of their sentence, which a judge can reduce after reviewing all the circumstances, including public safety, criminal history, and the nature of the offense. Further, through expanded rehabilitative programs my Administration has established in accordance with this legislation, inmates are receiving training and education to help them develop skills that will help them re-enter society successfully. Based on an assessment of their risk of recidivism and needs, inmates that complete some of these programs can secure early release to home confinement or a halfway house.

While we must be tough on crime, we can also be smart about reducing recidivism. One of the best ways to break the cycle of crime is to help former inmates find rewarding work. That is why my Administration is promoting second chance hiring to build on the reforms of the First Step Act and help former inmates live crime-free lives. I launched the Federal Interagency Crime Prevention and Improving Reentry Council to create more second chances for those returning home from prison. We are also working to expand Pell Grants to provide education and training to inmates before release and providing grants to States to expand their use of fidelity bonds to help persons with criminal records find gainful employment.

This month, we extend our heartfelt thanks to all who know in their hearts that redemption is possible. Second chances are possible only through a network of people who believe in themselves and others, former inmates determined to improve their lives, judges and public servants dedicated to reducing recidivism, and families and community members willing to lend their support to people striving to triumph over their past mistakes.

NOW, THEREFORE, I, DONALD J. TRUMP, President of the United States of America, by virtue of the authority vested in me by the Constitution and the laws of the United States, do hereby proclaim April 2020 as Second Chance Month. I call on all Americans to commemorate this month with events and activities that raise public awareness about preventing crime and providing those who have completed their sentences an opportunity for an honest second chance.

IN WITNESS WHEREOF, I have hereunto set my hand this thirty-first day of March, in the year of our Lord two thousand twenty, and of the Independence of the United States of America the two hundred and forty-fourth.

[FR Doc. 2020-07309

Filed 4-3-20; 8:45 am]

Billing code 3295-F0-P